DEPARTMENT OF LABOR

Employment and Training Administration

Investigations Regarding Certifications of Eligibility To Apply for Worker Adjustment Assistance and Alternative Trade Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Office of Trade Adjustment Assistance.

Interested persons are invited to submit written comments regarding the subject matter of the investigations to the Director, Office of Trade Adjustment Assistance, at the address shown below, not later than August 11, 2011.

The petitions filed in this case are available for inspection at the Office of the Director, Office of Trade Adjustment Assistance, Employment and Training Administration, U.S. Department of Labor, Room N-5428, 200 Constitution Avenue, NW., Washington, DC 20210.

Signed at Washington, DC, this 21st day of July 2011.
Michael W. Jaffe,
Certifying Officer, Office of Trade Adjustment Assistance.

Appendix
[18 TAA petitions instituted between 7/11/11 and 7/15/11]
TA-W | Subject firm (petitioners) | Location | Date of institution | Date of petition
80274 | OmniVision Technologies Inc. (State/One-Stop) | Boulder, CO | 07/11/11 | 07/08/11
80275 | Pfizer, Inc. (State/One-Stop) | Groton, CT | 07/11/11 | 07/08/11
80276 | Foster Needle Company Inc. (Company) | Manitowoc, WI | 07/11/11 | 06/30/11
80277 | Vermont Transformer (Workers) | Saint Albans, VT | 07/11/11 | 07/07/11
80278 | Wells Fargo Home Mortgage (State/One-Stop) | Costa Mesa, CA | 07/11/11 | 07/06/11
80279 | Paris Accessories, Inc. (State/One-Stop) | Yellville, AR | 07/12/11 | 07/11/11
80280 | Client Services, Inc. (Workers) | Denison, TX | 07/12/11 | 07/11/11
80281 | Priceline.com (State/One-Stop) | Grand Rapids, MI | 07/12/11 | 06/21/11
80282 | GH Metals Solutions (State/One-Stop) | Fort Payne, AL | 07/12/11 | 06/16/11
80283 | Craftwood, Inc. (Company) | High Point, NC | 07/13/11 | 07/13/11
80284 | Duro Bag Manufacturing Company (Company) | Richmond, VA | 07/13/11 | 07/12/11
80285 | ETS Tan (Company) | Indianapolis, IN | 07/13/11 | 07/13/11
80286 | The Columbus Dispatch (Workers) | Columbus, OH | 07/13/11 | 07/12/11
80287 | Anthony Temperment (Workers) | Alsip, IL | 07/14/11 | 07/13/11
80288 | Croscill Acquisition, LLC (Company) | Oxford, NC | 07/14/11 | 06/14/11
80289 | SAFC Biosciences Inc. (Company) | Denver, PA | 07/14/11 | 07/13/11
80290 | MGM Resorts International Operations, Inc. (Workers) | Las Vegas, NV | 07/15/11 | 07/14/11
80291 | Iridio Color Services (State/One-Stop) | Seattle, WA | 07/15/11 | 07/14/11

[FR Doc. 2011-19340 Filed 7-29-11; 8:45 am]

BILLING CODE 4510-FN-P